DEPARTMENT OF DEFENSE

Office of the Secretary

Privacy Act of 1974; System of Records

AGENCY: Office of the Secretary, DoD.

ACTION: Notice to add a system of records.

SUMMARY: The Office of the Secretary of Defense proposes to add a system of records to its inventory of record systems subject to the Privacy Act of 1974 (5 U.S.C. 552a), as amended.

DATES: The changes will be effective on January 19, 2005, unless comments are received that would result in a contrary determination.

ADDRESSES: Send comments to OSD Privacy Act Coordinator, Records Management Section, Washington Headquarters Services, 1155 Defense Pentagon, Washington, DC 20301-1155.

FOR FURTHER INFORMATION CONTACT: Ms. Juanita Irvin at (703) 601-4722, extension 110.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted on December 13, 2004, to the House Committee on Government Reforms, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: December 14, 2004.
Jeannette Owings-Ballard,
OSD Federal Register Liaison Officer, Department of Defense.

DPR 31

System name:

Personal Commercial Solicitation Evaluation.

System location:

Department of Defense, Military Community and Family Policy, ATTN: Morale, Welfare and Recreation Policy Office, 241 18th Street, Suite 302, Arlington, VA 22202-3424.

Categories of individuals covered by the system:

Active duty service members and solicitors.

Categories of records in the system:

Name of sales representative and company; appointment information; conduct of sale representative; active duty service member's name, home and work phone number, unit address and e-mail.

Authority for maintenance of the system:

5 U.S.C. 301, Departmental Regulation; 15 U.S.C. 1601, Congressional findings and declaration of purpose; and DoD Directive 1344.7, Personal Commercial Solicitation on DoD Installations.

Purpose(s):

The information is used to document the active duty service member's experience with the sales representatives. Service member responses ensure sales representatives conduct themselves fairly and in accordance with DoD Directive 1344.7. Information may be used as part of a case file in the event proceedings are considered necessary to deny or withdraw permission for the sales representative and/or the company to solicit on one or more military installations.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows: The DoD “Blanket Routine Uses” set forth at the beginning of OSD's compilation of systems of records notices do not apply to this system.

Policies and practices for storing, retrieving, accessing, retaining, and disposing of records in the system:

Storage:

Paper in file folders.

Retrievability:

Records are retrieved by the active duty service members' name and unit.

Safeguards:

Records are maintained in controlled areas accessible only to authorized personnel with a valid requirement and authorization to enter. Physical entry is restricted by use of combination numbered and cipher locks.

Retention and disposal:

Permanent. Cut off and retire to the Washington National Records Center when superseded or obsolete.

System manager(s) and address:

Senior Program Analyst, Department of Defense, ATTN: Morale, Welfare and Recreation Policy Office, 241 18th Street, Suite 302, Arlington, VA 22202-3424.

Notification procedure:

Individuals seeking to determine whether information about themselves is contained in this system should address written inquiries to the Office of the Under Secretary of Defense (Military Community and Family Policy), ATTN: Morale, Welfare and Recreation Policy Directorate, 1745 Jefferson Davis Highway, Suite 302, Arlington, VA 22202-3424.

Requests should include the individual's name, phone number, and address.

Record access procedures:

Individual seeking access to information about themselves should address written requests to the Office of the Under Secretary of Defense (Military Community and Family Policy), ATTN: Morale, Welfare and Recreation Policy Directorate, 1745 Jefferson Davis Highway, Suite 302, Arlington, VA 22202-3424.

Requests should include the individual's name, phone number, and address.

Contesting record procedures:

The OSD rules for accessing records, for contesting contents and appealing initial agency determinations are published in OSD Administrative Instruction 81; 32 CFR part 311; or may be obtained from the system manager.

Record source categories:

Active duty service member.

Exemptions claimed for the system:

None.

[FR Doc. 04-27701 Filed 12-17-04; 8:45 am]

BILLING CODE 5001-06-M